DEPARTMENT OF TRANSPORTATION

Federal Transit Administration

[FTA Docket No. 2016—FTA-2016-0016]

Notice of Request for the Extension of a Currently Approved Information Collection

AGENCY: Federal Transit Administration, DOT.

ACTION: Notice of request for comments.

SUMMARY: In accordance with the Paperwork Reduction Act of 1995, this notice announces the intention of the Federal Transit Administration (FTA) to request the Office of Management and Budget (OMB) to renew the following information collection:

Public Transportation Emergency Relief Program

OMB Control No.: 2132-0575.

The Moving Ahead for Progress in the 21st Century Act (MAP-21, Pub. L. 112-141) authorized the Emergency Relief Program at 49 U.S.C. 5324. FTA's Emergency Relief program enables FTA to provide assistance to public transit operators in the aftermath of an emergency or major disaster. This program helps States and public transportation systems pay for protecting, repairing, and/or replacing equipment and facilities that may suffer or have suffered serious damage as a result of an emergency, including natural disasters such as floods, hurricanes, and tornadoes. The program can fund capital projects to protect, repair, or replace facilities or equipment that are in danger of suffering serious damage, or have suffered serious damage as a result of an emergency. The program can also fund the operating costs of evacuation, rescue operations, temporary public transportation service, or reestablishing, expanding, or relocating service before, during or after an emergency.

DATES: Comments must be submitted before June 6, 2016.

ADDRESSES: To ensure that your comments are not entered more than once into the docket, submit comments identified by the docket number by only one of the following methods:

1. Web site: www.regulations.gov. Follow the instructions for submitting comments on the U.S. Government electronic docket site. (Note: The U.S. Department of Transportation's (DOT's) electronic docket is no longer accepting electronic comments.) All electronic submissions must be made to the U.S. Government electronic docket site at www.regulations.gov. Commenters should follow the directions below for mailed and hand-delivered comments.

2. Fax: 202-493-2251.

3. Mail: U.S. Department of Transportation, 1200 New Jersey Avenue SE., Docket Operations, M-30, West Building, Ground Floor, Room W12-140, Washington, DC 20590-0001.

4. Hand Delivery: U.S. Department of Transportation, 1200 New Jersey Avenue SE., Docket Operations, M-30, West Building, Ground Floor, Room W12-140, Washington, DC 20590-0001 between 9:00 a.m. and 5:00 p.m., Monday through Friday, except federal holidays.

Instructions: You must include the agency name and docket number for this notice at the beginning of your comments. Submit two copies of your comments if you submit them by mail. For confirmation that FTA has received your comments, include a self-addressed stamped postcard. Note that all comments received, including any personal information, will be posted and will be available to Internet users, without change, to www.regulations.gov. You may review DOT's complete Privacy Act Statement in the Federal Register published April 11, 2000, (65 FR 19477), or you may visit www.regulations.gov. Docket: For access to the docket to read background documents and comments received, go to www.regulations.gov at any time. Background documents and comments received may also be viewed at the U.S. Department of Transportation, 1200 New Jersey Avenue SE., Docket Operations, M-30, West Building, Ground Floor, Room W12-140, Washington, DC 20590-0001 between 9:00 a.m. and 5:00 p.m., Monday through Friday, except federal holidays.

FOR FURTHER INFORMATION CONTACT: Mr. Adam Schildge, Office of Program Management (202) 366-0778, or email: adam.schildge@dot.gov.

SUPPLEMENTARY INFORMATION: Interested parties are invited to send comments regarding any aspect of this information collection, including: (1) The necessity and utility of the information collection for the proper performance of the functions of the FTA; (2) the accuracy of the estimated burden; (3) ways to enhance the quality, utility, and clarity of the collected information; and (4) ways to minimize the collection burden without reducing the quality of the collected information. Comments submitted in response to this notice will be summarized and/or included in the request for OMB approval of this information collection.

Background: As a result of Hurricane Sandy, President Obama declared a major disaster in late 2012 for areas of 12 States and the District of Columbia affected by Hurricane Sandy. Public transportation agencies in the counties specified in the disaster declaration were eligible for financial assistance under FTA's Public Transportation Emergency Relief Program.

Under the Disaster Relief Appropriations Act (Pub. L. 113-2), Congress provided $10.9 billion for FTA's Emergency Relief Program for recovery, relief and resilience efforts in areas affected by Hurricane Sandy. Approximately $10.2 billion remained available after implementation of the Balanced Budget and Emergency Deficit Control Act of 2011 (Pub. L. 112-25) and after intergovernmental transfers to other bureaus and offices within DOT. FTA has allocated approximately $9.27 billion in multiple tiers for response, recovery and rebuilding, for locally prioritized resilience projects, and for competitively selected resilience projects. In addition, FTA has reserved approximately $817 million for remaining unfunded recovery expenses.

Respondents: States, local governmental authorities, Indian tribes and other FTA recipients impacted by Hurricane Sandy, which affected mid-Atlantic and northeastern states in October 2012, and particularly devastated transit operations in New Jersey and New York.

Estimated Annual Burden on Respondents: 20.

Estimated Total Annual Burden: 3,600 hours.

Frequency: As necessary.

William Hyre,
Deputy Associate Administrator for Administration.

[FR Doc. 2016-07711 Filed 4-4-16; 8:45 am]

BILLING CODE P